FEDERAL COMMUNICATIONS COMMISSION

Notice of Public Information Collection(s) Being Submitted for Review to the Office of Management and Budget

June 21, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 5, 2005. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this new or revised information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0357.

Title: Request for Designation as a Recognized Private Operating Agency.

Form No.: N/A.

Type of Review: Revision of a currently approved collection.

Respondents: Business or other for-profit.

Number of Respondents: 10.

Estimated Time Per Response: 5 hours.

Frequency of Response: On occasion reporting requirement.

Total Annual Burden: 35 hours.

Total Annual Cost: $13,000.

Privacy Act Impact Assessment: No.

Needs and Uses: The Commission adopted and released a Report and Order in IB Docket No. 04-226, FCC 05-91, which adopted the proposals made in the preceding Notice of Proposed Rulemaking (NPRM) of the same title (FCC 04-133). This rulemaking is hereinafter referred to as the International E-Filing R&O. The International E-Filing R&O eliminates paper filings and requires applicants to file electronically all applications and other filings related to international telecommunications services via the user-friendly, Internet-based International Bureau Filing System (IBFS).

At the request of the U.S. Department of State, the Commission adopted a voluntary program by which companies that provide enhanced services could seek designation as a recognized private operating agency (RPOA). The term RPOA was used in the International Telecommunications Convention, the international agreement that created the International Telecommunications Union (ITU), to refer to private-sector providers of international telecommunications services that had been “recognized” either by the government of the country in which they had been incorporated, or the country where they operated. Most providers of international telecommunications services to or from the U.S. hold either an authorization under Section 214 of the Communications Act or a radio license under Section 301 of the Act. The issuance of such authorizations or licenses is public evidence that the U.S. government “recognizes” the entities to which they are issued. However, providers of enhanced services are not licensed or authorized. They are permitted to begin operations without any formal applications or notifications. It is not immediately apparent to foreign governments that a U.S. enhanced service provider has been “recognized” within the meaning of the ITU Convention. As a consequence, such entities have sometimes found foreign governments unwilling to let them operate in those countries. As a result, the U.S. Department of State and the FCC developed a program whereby enhanced service providers could be formally designated as RPOAs. The program that was developed calls for those entities wishing to obtain such a designation to submit an application to the Commission setting forth pertinent information about the provider and the services it proposes to provide and a pledge by the provider that it would abide by all international obligations to which the U.S. is a signatory. The Commission places the application on public notice and allows interested parties to comment on the application. The Commission then makes a recommendation, based on the application and comments received and notifies the ITU of any applications that it grants. RPOA designation is voluntary. If an enhanced service provider does not find such a designation necessary, it is not required to file an application. In order to implement the program, the Commission adopted 47 CFR 63.701 to set forth the information that must be contained in an application for designation as a RPOA.

OMB Control No.: 3060-1028.

Title: International Signaling Point Code (ISPC).

Form No.: N/A.

Type of Review: Revision of a currently approved collection.

Respondents: Business or other for-profit.

Number of Respondents: 40.

Estimated Time Per Response: 10 minutes (.166) hours.

Frequency of Response: On occasion reporting requirement and third party disclosure requirement.

Total Annual Burden: 7 hours.

Total Annual Cost: N/A.

Privacy Act Impact Assessment: No.

Needs and Uses: The Commission adopted and released a Report and Order in IB Docket No. 04-226, FCC 05-91, which adopted the proposals made in the preceding Notice of Proposed Rulemaking (NPRM) of the same title (FCC 04-133). This rulemaking is hereinafter referred to as the International E-Filing R&O. The International E-Filing R&O eliminates paper filings and requires applicants to file electronically all applications and other filings related to international telecommunications services via the user-friendly, Internet-based International Bureau Filing System (IBFS).

An International Signaling Point Code (ISPC) is a unique, seven-digit code synonymous with a telephone number, used to identify each international carrier. The IPSC has a unique format that is used at the international level for signaling message routing and identification of signaling points. The Commission has revised this collection to implement mandatory electronic filing and to seek OMB approval of three new ISPC applications that will be developed over time contingent upon the availability of budget funds, human resources and other factors. They are: (1) For other filings; (2) notification of signaling point code implementation; and (3) inactivation of international signaling point code. The information collection requirements contained in this collection will facilitate the Commission's assignment of unique ISPCs to international carriers for identification purposes. In addition, it will enhance the ability of the international carriers to communicate with each other internationally through the shared signaling network.

OMB Control No.: 3060-1029.

Title: Data Network Identification Code (DNIC).

Form No.: N/A.

Type of Review: Revision of a currently approved collection.

Respondents: Business or other for-profit.

Number of Respondents: 5.

Estimated Time Per Response: .25 hours.

Frequency of Response: On occasion reporting requirement.

Total Annual Burden: 1 hour.

Total Annual Cost: N/A.

Privacy Act Impact Assessment: No.

Needs and Uses: The Commission adopted and released a Report and Order in IB Docket No. 04-226, FCC 05-91, which adopted the proposals made in the preceding Notice of Proposed Rulemaking (NPRM) of the same title (FCC 04-133). This rulemaking is hereinafter referred to as the International E-Filing R&O. The International E-Filing R&O eliminates paper filings and requires applicants to file electronically all applications and other filings related to international telecommunications services via the user-friendly, Internet-based International Bureau Filing System (IBFS).

The Commission plans to develop three new DNIC applications that impact this information collection. The development is contingent upon the availability of budget funds, human resources and other factors. These applications will be for: (1) Other filings; (2) code reassignment; and (3) code surrender.

The Commission obtains relevant information from operators of public data networks through the filing of applications through IBFS. The electronic collection of information expedites the Commission's review and approval of DNIC applications for operators of public data networks.

Federal Communications Commission.
Marlene H. Dortch,
Secretary.

[FR Doc. 05-13024 Filed 7-5-05; 8:45 am]

BILLING CODE 6712-01-P